DEPARTMENT OF ENERGY

Federal Energy Regulatory Commission

[Docket No. EG02-1-000, et al.]

Mattco Funding, Limited Partnership, et al.; Electric Rate and Corporate Regulation Filings

October 11, 2001.

Take notice that the following filings have been made with the Commission:

1. Mattco Funding, Limited Partnership

[Docket No. EG02-1-000]

Take notice that on October 3, 2001, Mattco Funding, Limited Partnership (Mattco), Four World Financial Center, New York, New York 10080, filed with the Federal Energy Regulatory Commission (Commission) an Application for Determination of Exempt Wholesale Generator Status pursuant to Part 365 of the Commission's Regulations.

The Application seeks a determination that Mattco qualifies for Exempt Wholesale Generator status. Mattco is a Delaware limited partnership that will own, but not operate a gas-fired combined cycle cogeneration facility rated at approximately 525 MW capacity. The facility will be used for the generation of electricity exclusively for sale at wholesale.

Copies of this application have been served upon the Securities and Exchange Commission and the Indiana Utility Regulatory Commission.

Comment date: November 1, 2001, in accordance with Standard Paragraph E at the end of this notice. The Commission will limit its consideration of comments to those that concern the adequacy or accuracy of the application.

2. Caithness Operating Company, LLC

[Docket No. EG02-2-000]

Take notice that on October 4, 2001, Caithness Operating Company, LLC (Applicant) filed with the Federal Energy Regulatory Commission (Commission) an Application for Determination of Exempt Wholesale Generator Status pursuant to Part 365 of the Commission's regulations.

Applicant states that it will operate the following eligible facilities: the Sun-Peak Facility, a 222 megawatt gas-fired peaking facility located in Las Vegas, Nevada; (ii) the Beowawe Geothermal Facility, a 16.6 megawatt geothermal power plant located in Beowawe, Nevada; (iii) the Dixie Valley Geothermal Facility, a 58 megawatt small power production facility, located at Dixie Valley, Nevada and (iv) the Steamboat Geothermal facility, a 13 megawatt geothermal power production facility located in Washoe County, Nevada.

Comment date: November 1, 2001, in accordance with Standard Paragraph E at the end of this notice. The Commission will limit its consideration of comments to those that concern the adequacy or accuracy of the application.

3. PPL Electric Utilities Corporation

[Docket No. EL02-3-000]

On October 5, 2001, PPL Electric Utilities Corporation filed with the Federal Energy Regulatory Commission (Commission) a Petition for Declaratory Order Regarding Repurchase of Common Stock.

Comment date: November 13, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

David P. Boergers,
Secretary.

[FR Doc. 01-26202 Filed 10-17-01; 8:45 am]

BILLING CODE 6717-01-P